DEPARTMENT OF HOMELAND SECURITY

Coast Guard

[Docket No. USCG-2018-0565]

Lifejacket Approval Harmonization

AGENCY: Coast Guard, DHS.

ACTION: Notice and request for comments.

SUMMARY: The Coast Guard announces that it is harmonizing personal flotation device (PFD) standards between the United States and Canada by accepting a new standard for approval of PFDs. Specific elements of the new standard are contained in a policy letter and deregulatory savings analysis, on which we are requesting public comment, and are intended to promote the Coast Guard's maritime safety and stewardship missions.

DATES: Comments must be submitted to the online docket via http://www.regulations.gov, or reach the Docket Management Facility, on or before October 16, 2018.

ADDRESSES: You may submit comments identified by docket number USCG-2018-0565 using the Federal eRulemaking Portal at http://www.regulations.gov. See the “Public Participation and Comments” portion of the SUPPLEMENTARY INFORMATION section for further instructions on submitting comments.

FOR FURTHER INFORMATION CONTACT: For information about this document call or email Jacqueline Yurkovich, Coast Guard; telephone 202-372-1389, email Jacqueline.M.Yurkovich@uscg.mil.

SUPPLEMENTARY INFORMATION:

Public Participation and Comments

We encourage you to submit comments on the lifejacket approval harmonization policy letter entitled, ADOPTION OF ANSI/CAN/UL 12402-5 AND -9, and the deregulatory savings analysis entitled, “Approval for Personal Floatation Devices/Adoption of ANSI/CAN/UL 12402-5 and 9,” which are available in the docket. The policy letter is also available on the USCG website, https://www.dco.uscg.mil/CG-ENG, listed as CG-ENG Policy 02-18. We will consider all submissions and may adjust our final action based on your comments. If you submit a comment, please include the docket number for this notice, indicate the specific section of the document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments or other documents are posted.

We accept anonymous comments. All comments received will be posted without change to http://www.regulations.gov and will include any personal information you have provided. For more about privacy and the docket, you may review a Privacy Act notice regarding the Federal Docket Management System in the March 24, 2005, issue of the Federal Register (70 FR 15086).

Discussion

The United States Coast Guard (USCG) has statutory authority under Title 46, U.S. Code, Sections 3306(a) and (b), 4102(a) and (b), 4302(a), and 4502(a) and (c)(2)(B) to prescribe regulations for the design, construction, performance, testing, carriage, use, and inspection of lifesaving equipment on commercial and recreational vessels. Since 2008, the USCG has been working closely with Transport Canada (TC) and a diverse group of U.S. and Canadian stakeholders to harmonize PFD standards with the current international standard (ISO 12402) to create a single North American standard for PFD approval. A single North American standard will allow manufacturers the opportunity to produce more innovative equipment that meets the approval requirements of both the United States and Canada.

In 2015, Underwriters Laboratories Inc. published bi-national standards ¹ to set forth performance requirements and manufacturing standards for PFDs that are being used when vessels are close to shore, or where a rescue may be imminent. UL 12402-5 sets forth the performance requirements for PFDs and, within UL 12402-5, there are two levels of performance: Level 50 and Level 70. A Level 70 PFD provides an equivalent level of safety to a Type III PFD currently approved under 46 CFR 160.064, 160.076, or 160.077-15, and certified to UL 1123 (Marine Buoyant Devices). A Level 50 PFD provides a reduced level of performance, and is not included in this policy. UL 12402-9 sets forth the test methods for determining compliance with UL 12402-5.

¹ ANSI/CAN/UL 12402-5, Standard for Personal Flotation Devices—Part 5: Buoyancy Aids (Level 50)—Safety Requirements (UL 12402-5), and ANSI/CAN/UL 12402-9, Standard for Personal Flotation Devices—Part 9: Test Methods (UL12402-9).

In April 2017, the USCG and TC signed a Memorandum of Understanding (MOU) outlining intended cooperation for approval of personal lifesaving appliances that comply with mutually acceptable standards, are tested by mutually accepted conformity assessment bodies or independent test laboratories, and are covered by a mutually acceptable follow-up program. In January 2018, TC published a policy stating it will accept UL 12402-5 as a substitute for its PFD standards in support of the MOU. The policy letter on which we are requesting comment builds on the efforts described above by establishing that the USCG will accept Level 70 PFDs complying with UL 12402-5 as equivalent to PFDs meeting the requirements in 46 CFR 160.064 and 160.076, with certain exceptions.

The adoption of this policy marks the culmination of over a decade of dedicated work across the lifejacket and recreational boating safety community and supports National Boating Safety Advisory Council Resolution 2009-83-01, which is available in the docket.² This policy also responds to a comment submitted by the Lifejacket Association in response to the Coast Guard's request for public input on “Evaluation of Existing Coast Guard Regulations, Guidance Documents, Interpretive Documents, and Collections of Information,” ³ recommending the Coast Guard consider full adoption of UL 12402-5 and UL 12402-9. In order to provide the maximum benefit to the public with minimum delay, the Coast Guard evaluated which elements of the new standards could be implemented without a change to the regulations. Those elements are being adopted by this policy. The remaining elements of the standards that cannot be adopted without a change to the regulations are being considered for possible future regulatory action.

² The Resolution requested the U.S. Coast Guard work cooperatively with stakeholders to devise and implement within 3 years an improved regulatory approach to the testing and approval of personal flotation devices, including life jackets.

³ 82 FR 26632 (June 8, 2017).

This policy letter allows manufacturers to have their products certified to the new bi-national standard, in lieu of the legacy standards codified in title 46 CFR. This allowance is intended to reduce the burden of maintaining approvals in U.S. and Canadian markets and to make additional types of PFDs available to U.S. and Canadian boaters.

This policy does not impact existing PFD approvals, and does not require any action on the part of boaters or mariners who have approved PFDs onboard. An existing approved PFD will continue to meet the same carriage requirements, as long as it remains in good and serviceable condition.

The Coast Guard has prepared a Deregulatory Savings Analysis for the policy letter that identifies and examines the potential costs and savings associated with implementing the new standards plan and is available in the docket. We request your comments on any concerns that you may have related to the policy changes.

This notice is issued under authority of 5 U.S.C. 552(a).

Dated: August 9, 2018.
J.G. Lantz,
Director of Commercial Regulations and Standards, U.S. Coast Guard.

[FR Doc. 2018-17799 Filed 8-16-18; 8:45 am]

BILLING CODE 9110-04-P